DEPARTMENT OF LABOR

Employment and Training Administration

[NAFTA-04003]

Wallowa Forest Products, Wallowa, Oregon; Notice of Revised Determination on Reopening

On August 22, 2000, the Department issued a Negative Determination Regarding Worker Eligibility to apply for NAFTA Transitional Adjustment Assistance applicable to workers of Wallowa Forest Products, Wallowa, Oregon. The notice was published in the Federal Register on September 12, 2000 (65 FR 55050).

By letters of September 21 and October 5, 2000, the company requested administrative reconsideration regarding the Department's denial and provided information about customer purchases of imported stud lumber that the Department had not previously considered.

Workers at the subject firm were engaged in employment related to the production of stud lumber. The workers are not separately identifiable by product line.

Sales, production and employment at the Wallowa facility declined during the relevant time period; the facility closed in June 2000.

The initial investigation resulted in a negative determination because there was no shift in production to Mexico or Canada and the company did not purchase imported stud lumber from Mexico or Canada. In addition, the Department conducted a survey of major customers which revealed that customers of the subject firm were not increasing their purchases of imported stud lumber.

The customer information provided by the company in its request for administrative reconsideration, and verified by the Department, revels that a major customer increased purchases of imported stud lumber from Canada while reducing purchases from the subject firm.

Conclusion

After careful review of the facts obtained on reconsideration, I conclude that increased imports of articles like or directly competitive with stud lumber contributed importantly to the declines in sales or production and to the total or partial separation of workers of Wallowa Forest Products, Wallowa, Oregon. In accordance with the provisions of the Trade Act, I make the following certification:

“All workers of Wallowa Forest Products, Wallowa, Oregon who became totally or partially separated from employment on or after June 27, 1999 are eligible to apply for NAFTA-TAA under Section 250 of the Trade Act of 1974.”

Signed in Washington, D.C. this 6th day of October 2000.
Linda G. Poole,
Certifying Officer, Division of Trade Adjustment Assistance.

[FR Doc. 00-26721 Filed 10-17-00; 8:45 am]

BILLING CODE 4510-30-M